FEDERAL MARITIME COMMISSION

[Docket No. 02-12]

Bernard & Weldcraft Welding Equipment v. Supertrans International, Inc.; Notice of Filing of Complaint and Assignment

Notice is given that a complaint was filed by Bernard & Weldcraft Welding Equipment (“Complainant”), against Supertrans International Inc. (“Respondent”). The complaint was served on August 9, 2002. Complainant alleges that Respondent violated sections 10(b)(2)(A) and 10(d)(1) of the Shipping Act of 1984, 46 U.S.C. app. sections 1709(b)(2)(A) and (d)(4), by refusing to release certain cargo it committed to deliver in accordance with the terms of a bill of lading it issued, unless the consignee remits charges in excess of those set forth in Supertrans' tariff. Complainant seeks reparations and certain other relief set forth in its complaint.

This proceeding has been assigned to the office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by August 11, 2003, and the final decision of the Commission shall be issued by December 12, 2003.

Bryant L. VanBrakle,
Secretary.

[FR Doc. 02-20714 Filed 8-14-02; 8:45 am]

BILLING CODE 6730-01-P